DEPARTMENT OF THE INTERIOR

Bureau of Land Management

[LLUT934000-16XL5413AR-L12320000-FU0000-LVRDUT210000]

Notice of Intent To Collect New Standard and Expanded Amenity Recreation Fees at Sites in the Cedar City, Moab, Monticello and Vernal Field Offices, Utah

AGENCY: Bureau of Land Management, Interior.

ACTION: Notice of intent.

SUMMARY: Pursuant to applicable provisions of the Federal Lands Recreation Enhancement Act (FLREA), the Moab, Monticello, Cedar City, and Vernal Field Offices of the Bureau of Land Management (BLM) are posting a Notice of Intent to begin collecting fees for 20 campgrounds, 22 day use sites, and two rental cabins.

DATES: All new fees will become effective August 27, 2019.

SUPPLEMENTARY INFORMATION: The BLM Utah new fee sites are listed below:

The Cedar City Field Office will establish new recreation fees at campgrounds and day use sites. Campgrounds include: Rocky Peak, Coal Creek, Mineral Mountains, South Creek, Shurtz Canyon, Center Cabin, and Hanging Rock. Fees at campgrounds without water will be $5 per night and with water will be $10 per night. Group sites and pavilions will have a day use or camping fee between $20-$210, depending on water and the size of the group. Fees at the Three Peaks Model Port and Radio Control Car Track will be $2 per day, with a $25 yearly pass, and $220 for an exclusive use reservation. There will be 13 day use sites with a no minimum use fee.* These day use sites include: Three Peaks (Mountain Bike site, Equestrian site, Disc Golf Course, and OHV site), Rock Corral site, Parowan Gap site, Southview site, Thunderbird Gardens site, Shurtz Canyon site, Fiddlers Canyon site, Enoch Bench site, Ironside Disc Golf Course, and Parowan Canyon Disc Golf Course.

* Users pay what they feel their recreation experience is worth to them specifically for the use of these developed recreation areas.

The Moab Field Office will establish new campground fees at North Klondike, Mineral, Utah Rims, Black Ridge, and Cameo Cliffs/Hook and Ladder. Fees for overnight use of individual campsites will be $25 per night, and group campsites will be $5 per person per night at these campgrounds.

The Monticello Field Office will establish new campground fees at Grand Flat, Moki Dugway, Shay Vista, and Comb Wash Campgrounds. Fees for overnight use of individual campsites will be $15 per night, and group campsites will become a flat rate of $65 per night at these campgrounds.

The Vernal Field Office will establish new recreation fees at campgrounds, day use sites, and rental cabins. New campground fees will be established at Pelican Lake, McCoy Flats, Cliff Ridge, and Docs Beach. Fees for overnight use of individual campsites will be $10 per night, and group campsites will be $35 group site per night at these campgrounds. Fees for the Split Mountain Yurt Rentals will be $50 per night and the John Jarvie Historic Bunkhouse will be $60 per night. The following day use sites will be a no minimum use fee:* McCoy Flats Day Use Site, Pelican Lake Day Use Site, Dinosaur Trackway Day Use Site, Red Fleet Downhill Flow Day Use Site, LaPoint Day Use Site, Dino-Daily Boat Ramp (Put-In), and Dino-Daily Boat Ramp (Take-Out).

Under Public Law 108-447, Sec. 803 (g) (2) (A/C) of the FLREA, developed campgrounds and rental cabins qualify as sites wherein visitors can be charged an “Expanded Amenity Recreation Fee.” Pursuant to FLREA and implementing regulations at 43 CFR Subpart 2933, fees may be charged for overnight camping, rental of cabins, and group use reservations where specific amenities and services are provided. Specific visitor fees will be identified and posted at each campground, day use site, or rental cabin.

Under Public Law 108-447, Sec. 803 (f)(4) of the FLREA, all day use sites in this Notice qualify as areas wherein visitors can be charged a “Standard Amenity Recreation Fee.” Pursuant to FLREA and implementing regulations at 43 CFR Subpart 2933, fees may be charged for an area where there are significant opportunities for outdoor recreation, has substantial Federal investments, where fees can be efficiently collected, and contains specific amenities and services. Specific visitor fees will be identified and posted at each day use site.

People holding the America The Beautiful—The National Parks and Federal Recreational Lands—Senior Pass (i.e., Interagency Senior Pass), a Golden Age Passport, the America the Beautiful—The National Parks and Federal Recreational Lands—Access Pass (i.e., Interagency Access Pass), or a Golden Access Passport will be entitled to a 50 percent fee reduction on all expanded amenity fees and free standard amenity fees, except those associated with group reservations.

In December 2004, FLREA was signed into law. FLREA provides authority for the Secretaries of the Interior and Agriculture to establish, modify, charge, and collect recreation fees for use of some Federal recreation lands and waters, and contains specific provisions addressing public involvement in the establishment of recreation fees, including a requirement that a Recreation RAC have the opportunity to make recommendations regarding establishment of such fees. FLREA also directed the Secretaries of the Interior and Agriculture to publish six months' advance notice in the Federal Register whenever new recreation fee areas are established under their respective jurisdictions.

In an effort to meet increasing demands for services and increased maintenance costs, the BLM Utah has developed recreation fee business plans. The plans cover campgrounds, rental cabins, and day use areas within the Moab, Monticello, Cedar City, and Vernal Field Offices. The plans will implement new Standard and Expanded Amenity Recreation Fees for developed campgrounds, group use, rental cabins, and day use fees at the sites as indicated above.

In response to increasing visitation on BLM-administered lands in Utah, the new recreation fees will be used to replace aging infrastructure at campgrounds and day use sites, to increase visitor services, and to improve access to recreational opportunities across the state.

As analyzed in the Field Offices business plans, the campsite, group use, rental cabins, and day use fees are consistent with other established fee sites in the regions including other BLM administered sites and those managed by the United States Department of Agriculture—Forest Service, United Stated Department of the Interior—National Park Service, and Utah State Parks and Recreation.

In accordance with the BLM recreation fee program policy, the business plans explain agency management direction, the need for fee collection, and how the fees will be used at the sites. The BLM notified and involved the public at each stage of the planning process. A 30-day public comment period on the draft campground and day use business plans was announced on April 12, 2018 through a BLM public news release, letters mailed to local governments and major stakeholders, by providing information on the BLM website, and posting written notices at each fee site. The draft business plans were publicly available for review and comment on the BLM Utah business plan website from April 11, 2018 until May 12, 2018.

Following FLREA guidelines, the Utah Recreation RAC reviewed and recommended the new fee proposals at their meeting on May 22, 2018. Fee amounts will be posted on-site, and copies of the business plan will be available at the Field Offices and the BLM Utah State Office, and posted online.

Authority: 16 U.S.C. 6803 and 43 CFR 2933.

Edwin L. Roberson,
State Director.

[FR Doc. 2019-03385 Filed 2-26-19; 8:45 am]

BILLING CODE 4310-DQ-P